DEPARTMENT OF ENERGY

Federal Energy Regulatory Commission

[Docket Nos. RP00-407-002 and RP00-619-003]

High Island Offshore System, L.L.C., Notice Compliance Filing

December 14, 2001.

Take notice that December 7, 2001, High Island Offshore System (HIOS) tendered for filing as part of its FERC Gas Tariff, Third Revised Volume No. 1, the tariff sheets listed on Appendix A to the filing, with an effective date of January 7, 2002.

HIOS states that the filing is being made in compliance with the Commission's November 8, 2001, Order in the above-referenced proceeding, which relates to compliance with the Commission's Order No. 637.

HIOS states that copies of the filing has been mailed to each of the parties who have intervened in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-31316 Filed 12-19-01; 8:45 am]

BILLING CODE 6717-01-P